DEPARTMENT OF JUSTICE

Antitrust Division

Notice Pursuant to the National Cooperative Research and Production Act of 1993—1EdTech Consortium, Inc.

Notice is hereby given that, on June 8, 2023, pursuant to Section 6(a) of the National Cooperative Research and Production Act of 1993, 15 U.S.C. 4301 et seq. (“the Act”), 1EdTech Consortium, Inc. (“EdTech Consortium”) has filed written notifications simultaneously with the Attorney General and the Federal Trade Commission disclosing changes in its membership. The notifications were filed for the purpose of extending the Act's provisions limiting the recovery of antitrust plaintiffs to actual damages under specified circumstances. Specifically, California Department of Education, Sacramento, CA; Cherokee County School District, Canton, GA; Common Goods Learning Tools, Portland, OR; Dorchester School District Two, Summerville, SC; EdisonLearning, Inc., Ft. Lauderdale, FL; Fresno Unified School District, Fresno, CA; LINC, Miami Lakes, FL; Owensboro Public Schools, Owensboro, KY; Tutor.com, New York, NY; University of Nottingham Online, Nottingham, UNITED KINGDOM; Cypress-Fairbanks ISD, Houston, TX; Fairfax County Public Schools, Falls Church, VA; Goose Creek CISD, Baytown, TX; Incident IQ, Atlanta, GA; Little Rock School District, Little Rock, AR; National Heritage Academies, Grand Rapids, MI; Oklahoma City Public Schools, Oklahoma City, OK; Pearl, Richmond, VA; Rockwood School District, Eureka, MO; Round Rock Independent School District, Round Rock, TX; Subject Technologies, Beverly Hills, CA; and Utah State Board of Education, Salt Lake City, UT have been added as parties to this venture.

Also, KION, Istanbul, TURKEY; U Missouri, Columbia, MO; Effingham, Springfield, GA; Blackboard, Washington, DC; Virginia Virtual, Floyd, VA; VerifyEd, Dorset, UNITED KINGDOM; Gutenberg, Boston, MA; Class Technologies, Raleigh, NC; Paper, Montreal, CANADA; South Orange County Community College District, Mission Viejo, CA; LearnPlatform, Raleigh, NC; Conexus, Drammen, NORWAY; IBM Corp Training; Cambridge, MA; Classera, San Francisco, CA; Colorado Virtual Academy, Lakewood, CO; Education Advanced, Tyler, TX; Tyler Technologies, St. Louis, MO; Aspire Ability, Payson, UT; Gooru, Redwood City, CA; UMass Global, Irvine, CA; Klassroom SAS, Paris, FRANCE; RethinkED, New York, NY; Signature Digital, Leicester, UNITED KINGDOM; Pivotal EdTech, Dublin, IRELAND; LearningMate, Princeton, NJ; 2U, Lanham, MD; Northcentral, San Diego, CA; Spring-Ford, Royersford, PA; Allegany County School District, Cumberland, MD; and Neosho, Neosho, MO have withdrawn as parties to this venture.

No other changes have been made in either the membership or planned activity of the group research project. Membership in this group research project remains open, and EdTech Consortium intends to file additional written notifications disclosing all changes in membership.

On April 7, 2000, EdTech Consortium filed its original notification pursuant to Section 6(a) of the Act. The Department of Justice published a notice in the Federal Register pursuant to Section 6(b) of the Act on September 13, 2000 (65 FR 55283).

The last notification was filed with the Department on January 19, 2023. A notice was published in the Federal Register pursuant to Section 6(b) of the Act on March 17, 2023 (88 FR 16458).

Suzanne Morris,
Deputy Director Civil, Enforcement Operations, Antitrust Division.

[FR Doc. 2023-14887 Filed 7-12-23; 8:45 am]

BILLING CODE P